DEPARTMENT OF ENERGY

Federal Energy Regulatory Commission

Combined Notice of Filings # 1

April 25, 2006.

Take notice that the Commission received the following electric securities filings.

Docket Numbers: ES06-36-000.

Applicants: Golden Spread Electric Cooperative, Inc.

Description: Golden Spread Electric Cooperative, Inc. submits an application for authorization to issue short-term debt securities in an aggregate amount not to exceed $160 million etc. pursuant to section 204 of the Federal Power Act.

Filed Date: April 11, 2006.

Accession Number: 20060418-0352.

Comment Date: 5 p.m. eastern time on Friday, May 5, 2006.

Docket Numbers: ES06-37-000.

Applicants: Consumers Energy Company.

Description: Consumers Energy Co. submits its Application for Authority to Issue Short Term Securities for the period of July 1, 2006 through June 30, 2008, pursuant to section 204 of the Federal Power Act.

Filed Date: April 18, 2006.

Accession Number: 20060418-5034.

Comment Date: 5 p.m. eastern time on Tuesday, May 9, 2006.

Docket Numbers: ES06-38-000.

Applicants: Consumers Energy Company.

Description: Consumers Energy Co. submits its Application for Authority to Issue Long Term Securities for the period of July 1, 2006 through June 30, 2008 pursuant to section 204 of the Federal Power Act.

Filed Date: April 18, 2006.

Accession Number: 20060418-5035.

Comment Date: 5 p.m. eastern time on Tuesday, May 9, 2006.

Docket Numbers: ES06-40-000.

Applicants: Westar Energy, Inc.

Description: Westar Energy, Inc. submits its section 204 application for authority to issue up to $750 million in short-term securities and to pledge mortgage bonds not to exceed $750 million to secure the short-term indebtedness.

Filed Date: April 21, 2006.

Accession Number: 20060421-5045.

Comment Date: 5 p.m. Eastern Time on Friday, May 12, 2006.

Docket Numbers: ES06-41-000.

Applicants: Kansas Gas and Electric Company.

Description: Kansas Gas and Electric Company submits an application, pursuant to section 204 of the Federal Power Act, for authority to issue up to $750 million in short-term securities and to pledge mortgage bonds not to exceed $750 million etc.

Filed Date: April 21, 2006.

Accession Number: 20060421-5049.

Comment Date: 5 p.m. eastern time on Friday, May 12, 2006.

Docket Numbers: ES06-42-000.

Applicants: Kansas Gas and Electric Company.

Description: Kansas Gas and Electric Company submits an application, pursuant to section 204 of the Federal Power Act, for authority to issue and pledge mortgage bonds not to exceed $750 million to secure certain indebtedness of its sole shareholder, Westar Energy, Inc.

Filed Date: April 21, 2006.

Accession Number: 20060421-5057.

Comment Date: 5 p.m. eastern time on Friday, May 12, 2006.

Docket Numbers: ES06-43-000.

Applicants: Midwest Independent Transmission System Operator, Inc.

Description: Midwest ISO submits its application, pursuant to Section 204 of the Federal Power Act, to Issue Securities not to exceed $50 million.

Filed Date: April 21, 2006.

Accession Number: 20060421-5073.

Comment Date: 5 p.m. eastern time on Friday, May 12, 2006.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Magalie R. Salas,
Secretary.

[FR Doc. E6-6571 Filed 5-1-06; 8:45 am]

BILLING CODE 6717-01-P